DEPARTMENT OF HOUSING AND URBAN DEVELOPMENT

[Docket No. FR-5494-N-01]

Announcement of Funding Awards for Fiscal Year 2010 for the Housing Choice Voucher Program

AGENCY: Office of the Assistant Secretary for Public and Indian Housing, HUD.

ACTION: Announcement of Fiscal Year 2010 awards.

SUMMARY: In accordance with Section 102(a)(4)(C) of the Department of Housing and Urban Development Reform Act of 1989, this document notifies the public of funding awards for Fiscal Year (FY) 2010 to housing agencies (HAs) under the Section 8 Housing Choice Voucher Program. The purpose of this notice is to publish the names, addresses, and the amount of the awards to HAs for non-competitive funding awards for housing conversion actions, public housing relocations and replacements, moderate rehabilitation replacements, and HOPE VI voucher awards.

FOR FURTHER INFORMATION CONTACT: Danielle Bastarache, Director, Office of Housing Voucher Programs, Office of Public and Indian Housing, Department of Housing and Urban Development, 451 Seventh Street, SW., Room 4228, Washington, DC 20410-5000, telephone (202) 402-0477. Hearing- or speech-impaired individuals may call HUD's TTY number at (800) 927-7589. (Only the “800” telephone number is toll-free.)

SUPPLEMENTARY INFORMATION: The regulations governing the housing choice voucher program are published at 24 CFR part 982. The regulations for allocating housing assistance budget authority under Section 213(d) of the Housing and Community Development Act of 1974 are published at 24 CFR part 791, subpart D.

The purpose of this rental assistance program is to assist eligible families to pay their rent for decent, safe, and sanitary housing. This announcement awards Section 8 funds on an as-needed, non-competitive basis and does not include provisions associated with Notices of Funding Availability (NOFAs) offered competitively through grants.gov. Tenant protection voucher awards made to PHAs for program actions that displace families living in public housing were made on a first-come, first-served basis in accordance with PIH Notice 2007-10, Voucher Funding in Connection with the Demolition or Disposition of Occupied Public Housing Units. Announcements of awards provided under the NOFA process for Mainstream, Designated Housing, Family Unification (FUP), and Veterans Assistance Supportive Housing (VASH) programs will be published in a separate Federal Register notice.

Awards published under this notice were provided (1) to assist families living in HUD-owned properties that are being sold; (2) to assist families affected by the expiration or termination of their project-based Section 8 and moderate rehabilitation contracts; (3) to assist families in properties where the owner has prepaid the HUD mortgage; (4) to provide relocation housing assistance in connection with the demolition of public housing; (5) to provide replacement housing assistance for single room occupancy (SRO) units that fail housing quality standards (HQS); and (6) to assist families in public housing developments that are scheduled for demolition in connection with a HUD-approved HOPE VI Revitalization or Demolition Grant. Additionally, housing choice vouchers were awarded to PHAs administering assistance to families that resided in certain Office of Multifamily Housing properties at the time of Hurricane Katrina or Rita. Some families were eligible to receive voucher assistance because owners of these properties subsequently decided to prepay the preservation eligible mortgage or the Section 8 project-based contract was terminated or not renewed.

A special housing fee of $200 per occupied unit was provided to PHAs to compensate the PHA for any extraordinary Section 8 administrative costs associated with the Multifamily housing conversion action.

The Department awarded total new budget authority of $145,768,063 for 17,726 housing choice vouchers to recipients under all of the above-mentioned categories.

In accordance with Section 102(a)(4)(C) of the Department of Housing and Urban Development Reform Act of 1989 (103 Stat. 1987, 42 U.S.C. 3545), the Department is publishing the names, addresses, and amounts of those awards as shown in Appendix A alphabetically by State then by PHA name.

Dated: January 4, 2011.
Deborah Hernandez,
General Deputy Assistant Secretary for Public and Indian Housing.

Section 8 Rental Assistance Programs Announcement of Awards for Fiscal Year 2010
Housing agency | Address | Units | Award
Public Housing Tenant Protection Mod Replacements
CA: OAKLAND HA | 1619 HARRISON ST, OAKLAND, CA 94612 | 12 | 171,196
CA: SAN DIEGO HSG COMM | 1122 BRDWAY, STE 300, SAN DIEGO, CA 92101 | 4 | 42,236
CA: SANTA CRUZ COUNTY HA | 2931 MISSION ST, SANTA CRUZ, CA 95060 | 96 | 1,065,464
CO: HA OF PUEBLO | 1414 NO. SANTA FE AVE, PUEBLO, CO 81003 | 6 | 33,040
DC: DISTRICT OF COLUMBIA HA | 1133 NORTH CAPITOL ST NE, WASHINGTON, DC 20002 | 27 | 341,454
GA: GEORGIA DEPT OF COMM AFFAIRS | 60 EXECUTIVE PARK SO, NE, STE 250, ATLANTA, GA 30329 | 15 | 95,081
MD: HA OF BALTIMORE CITY | 417 EAST FAYETTE ST, BALTIMORE, MD 21201 | 18 | 162,195
ME: MAINE STATE HA | 353 WATER ST, AUGUSTA, ME 04330 | 15 | 91,102
MO: ST. LOUIS COUNTY HA | 8865 NATURAL BRIDGE, ST. LOUIS, MO 63121 | 11 | 71,998
MS: MISS REGIONAL HA VI | PO DRAWER 8746, JACKSON, MS 39284 | 7 | 47,727
MT: MT DEPT OF COMMERCE | 301 S. PARK, HELENA, MT 59620 | 6 | 25,511
ND: FARGO HRA | PO BOX 430, FARGO, ND 58107 | 38 | 147,151
NE: OMAHA HA | 540 SOUTH 27TH ST, OMAHA, NE 68105 | 7 | 45,857
NJ: CLIFTON HA | CITY HALL 900 CLIFTON AVE, CLIFTON, NJ 07013 | 11 | 98,362
NY: HA OF LOCKPORT | 301 MICHIGAN ST, LOCKPORT, NY 14094 | 5 | 19,423
NY: TOWN OF AMHERST | 1195 MAIN ST, BUFFALO, NY 14209 | 6 | 27,467
NY: THE CITY OF NEW YORK | 100 GOLD ST ROOM 501, NEW YORK, NY 10007 | 22 | 241,747
NY: CITY OF NIAGARA FALLS | 1022 MAIN ST, NIAGARA FALLS, NY 14302 | 7 | 29,154
OH: CUYAHOGA MHA | 1441 WEST 25TH ST, CLEVELAND, OH 44113 | 7 | 48,640
OR: HA OF JACKSON COUNTY | 2231 TABLE ROCK RD, MEDFORD, OR 97501 | 1 | 6,031
PA: PHILADELPHIA HA | 12 SOUTH 23RD ST, PHILADELPHIA, PA 19103 | 11 | 85,963
PA: ALLEGHENY COUNTY HA | 625 STANWIX ST, 12TH FL, PITTSBURGH, PA 15222 | 1 | 5,168
SC: HA OF CHARLESTON | 20 FRANKLIN ST, CHARLESTON, SC 29401 | 24 | 143,768
SC: HA OF COLUMBIA | 1917 HARDEN ST, COLUMBIA, SC 29204 | 12 | 74,027
SC: HA OF CHERAW | PO DRAWER 969, FLORENCE, SC 29503 | 5 | 17,050
SC: HSG & COM REDEV AUTH | PO DRAWER 969, FLORENCE, SC 29503 | 11 | 42,274
SC: SC STATE HSG FINANCE & DEV | 300-C OUTLET POINTE BLVD, COLUMBIA, SC 29210 | 15 | 87,480
TX: LAREDO HA | 2000 SAN FRANCISCO AVE, LAREDO, TX 78040 | 15 | 81,574
VA: ROANOKE REDEV & HA | 2624 SALEM TRNPK, NW, ROANOKE, VA 24017 | 8 | 47,996
Total for Mod Replacements |  | 423 | $3,396,136
Relocation/Replacement
AK: AK HSG FINANCE CORP | PO BOX 101020, ANCHORAGE, AK 99510 | 59 | 416,729
CA: SAN FRANCISCO HA | 1815 EGBERT AVE, SAN FRANCISCO, CA 94124 | 76 | 1,341,869
CA: COUNTY OF SACRAMENTO HA | PO BOX 1834, SACRAMENTO, CA 95812 | 153 | 1,312,299
CA: COUNTY OF SAN BERNARDINO HA | 715 E. BRIER DR, SAN BERNARDINO, CA 92408 | 335 | 2,556,559
CA: COUNTY OF SANTA BARBARA HA | 815 W OCEAN, LOMPOC, CA 93438 | 54 | 491,041
CA: CITY OF ALAMEDA HA | 701 ATLANTIC AVE, ALAMEDA, CA 94501 | 0 | 42,900
CA: CITY OF MADERA HA | 205 NORTH “G” ST, MADERA, CA 93637 | 16 | 97,666
CA: MENDOCINO CO COMM DEV COMM | 1076 NORTH STATE ST, MENDOCINO, CA 95482 | 139 | 865,108
CO: HA OF CITY & CO OF DENVER | 777 GRANT ST, DENVER, CO 80203 | 168 | 1,474,603
CT: HARTFORD HA | 160 OVERLOOK TERR, HARTFORD, CT 06106 | 83 | 685,278
CT: STAMFORD HA | 22 CLINTON AVE, STAMFORD, CT 06901 | 148 | 2,167,200
CT: WEST HARTFORD HA | 80 SHIELD ST, WEST HARTFORD, CT 06110 | 95 | 775,724
DC: DISTRICT OF COLUMBIA HA | 1133 NORTH CAPITOL ST NE, WASHINGTON, DC 20002 | 58 | 697,815
FL: ORLANDO HA | 390 NORTH BUMBY AVE, ORLANDO, FL 32803 | 86 | 650,728
FL: HA OF SARASOTA | 1300 BOULEVARD OF THE ARTS, SARASOTA, FL 34236 | 15 | 142,952
FL: BROWARD COUNTY HA | 4780 NO STATE RD 7, LAUDERDALE LAKES, FL 33319 | 96 | 1,138,337
GA: HA OF SAVANNAH | 1407 WHEATON ST, SAVANNAH, GA 31402 | 186 | 1,372,835
GA: HA OF ATLANTA GA | 230 JOHN WESLEY DOBBS AVE, NE, ATLANTA, GA 30303 | 113 | 1,668,273
GA: HA OF CITY OF DECATUR | 750 COMMERCE DR, STE 110, DECATUR, GA 30030 | 10 | 74,782
GA: HA OF CITY OF EAST POINT | 3056 NORMAN BERRY DR, EAST POINT, GA 30344 | 108 | 682,332
IL: HA OF CITY OF EAST ST. LOUIS | 700 NORTH 20TH ST, EAST ST LOUIS, IL 62205 | 6 | 42,286
IL: MADISON HA | 1609 OLIVE ST, COLLINSVILLE, IL 62234 | 115 | 665,975
IN: HAMMOND HA | 1402 173RD ST, HAMMOND, IN 46324 | 112 | 723,852
KY: LOUISVILLE HA | 420 SOUTH EIGHTH ST, LOUISVILLE, KY 40203 | 155 | 1,098,956
MA: BOSTON HA | 52 CHAUNCY ST, BOSTON, MA 02111 | 515 | 6,659,507
MD: HA OF THE CITY OF ANNAPOLIS | 1217 MADISON ST, ANNAPOLIS, MD 21403 | 144 | 1,639,973
MD: HA OF BALTIMORE CITY | 417 EAST FAYETTE ST, BALTIMORE, MD 21201 | 114 | 1,073,743
MO: ST. LOUIS COUNTY HA | 8865 NATURAL BRIDGE, ST. LOUIS, MO 63121 | 88 | 575,985
MS: HA OF SOUTH DELTA | PO BOX 959, LELAND, MS 38756 | 24 | 119,629
NC: HA OF CITY OF WILLMINGTON | 508 S FRONT ST, WILMINGTON, NC 28402 | 36 | 210,622
NC: HA OF CITY OF CHARLOTTE | 1301 SOUTH BOULEVARD, CHARLOTTE, NC 28236 | 105 | 908,649
NJ: NEWARK HA | 57 SUSSEX AVE, NEWARK, NJ 07103 | 90 | 917,654
NJ: FRANKLIN TOWNSHIP HA | ONE PARKSIDE ST, SOMERSET, NJ 08873 | 60 | 594,447
OH: COLUMBUS METRO HA | 880 EAST 11TH AVE, COLUMBUS, OH 43211 | 392 | 2,371,474
OR: HA OF COUNTY OF CLACKAMAS | PO BOX 1510, OREGON CITY, OR 97045 | 19 | 131,912
OR: MARION COUNTY HA | PO BOX 14500, SALEM, OR 97309 | 7 | 37,123
PA: PHILADELPHIA HA | 12 SOUTH 23RD ST, PHILADELPHIA, PA 19103 | 137 | 1,374,219
RI: WOONSOCKET HA | 679 SOCIAL ST, WOONSOCKET, RI 02895 | 51 | 382,065
SC: HA OF MYRTLE BEACH | PO BOX 2468, MYRTLE BEACH, SC 29578 | 40 | 218,784
TN: HA OF BROWNSVILLE | PO BOX 194, BROWNSVILLE, TN 38012 | 47 | 168,682
TN: HA OF MURFREESBORO | 415 NORTH MAPLE ST, MURFREESBORO, TN 37130 | 8 | 43,583
TN: SHELBY COUNTY HA | 715 ROUGE BLUFF AVE, MEMPHIS, TN 28127 | 13 | 80,608
TX: HA OF DALLAS | 3939 N. HAMPTON RD, DALLAS, TX 75212 | 12 | 95,894
TX: SAN BENITO HA | PO BOX 1900, SAN BENITO, TX 78586 | 53 | 232,521
TX: HA OF CITY OF MARBLE FALLS | 1110 BROADWAY, MARBLE FALLS, TX 78654 | 100 | 459,396
VA: ALEXANDRIA REDEV & HA | 600 N FAIRFAX ST, ALEXANDRIA, VA 22314 | 184 | 2,320,917
VA: NORFOLK REDEV & HA | 201 GRANBY ST, NORFOLK, VA 23501 | 95 | 755,558
VT: RUTLAND HA | 5 TREMONT ST, RUTLAND, VT 05701 | 37 | 180,530
Total for Relocation/Replacement |  | 4,757 | $42,739,574
SRO-Relocation/Replacement
MA: BOSTON HA | 52 CHAUNCY ST, BOSTON, MA 02111 | 5 | 64,655
MN: DULUTH HRA | PO BOX 16900, DULUTH, MN 55816 | 1 | 4,427
OH: AKRON MHA | 100 W. CEDAR ST, AKRON, OH 44307 | 90 | 514,685
PA: MCKEESPORT HA | 2901 BROWNLEE AVE, MCKEESPORT, PA 15132 | 3 | 17,592
TN: KNOXVILLE COMM DEV CORP | PO BOX 3550, KNOXVILLE, TN 37927 | 16 | 86,709
TX: HOUSTON HA | 2640 FOUNTAIN VIEW, HOUSTON, TX 77057 | 7 | 55,364
Total for SRO-Relocation/Replacement |  | 122 | $743,432
Witness Relocation
AL: FLORENCE HA | 110 SO CYPRESS ST, STE #1, FLORENCE, AL 35630 | 1 | 4,896
CO: AURORA HA | 10745 E KENTUCKY AVE, AURORA, CO 80012 | 1 | 8,268
FL: HA OF OCALA | PO BOX 2468, OCALA, FL 34478 | 1 | 8,496
GA: HA OF DEKALB COUNTY | 750 COMMERCE DR, STE 201, DECATUR, GA 30030 | 1 | 8,520
MA: BARNSTABLE HA | 146 SOUTH ST, HYANNIS, MA 02601 | 1 | 17,500
MD: MONTGOMERY CO HA | 10400 DETRICK AVE, KENSINGTON, MD 20895 | 9 | 169,110
NJ: BAYONNE HA | 50 EAST 21ST ST, BAYONNE, NJ 07002 | 1 | 6,468
Total for Witness Relocation |  | 15 | $223,258
Total for Public Housing Tenant Protection |  | 5,317 | $47,102,400
Housing Tenant Protection
Disaster Voucher Program to Tenant Protection Voucher Conversions
FL: HA OF DELRAY BEACH | 600 N CONGRESS, STE 310B, DELRAY BEACH, FL 33445 | 1 | 11,189
GA: HA OF CITY OF COLLEGE PARK | 2000 W. PRINCETON AVE, COLLEGE PARK, GA 30337 | 1 | 8,231
GA: HA OF DEKALB COUNTY | 750 COMMERCE DR, STE 201, DECATUR, GA 30030 | 2 | 16,091
GA: HA OF FULTON COUNTY | 4273 WENDELL DR, SW, ATLANTA, GA 30336 | 4 | 36,744
TN: MEMPHIS HA | PO BOX 3664, MEMPHIS, TN 38103 | 1 | 7,098
TX: AUSTIN HA | PO BOX 6159, AUSTIN, TX 78762 | 4 | 33,711
TX: HOUSTON HA | 2640 FOUNTAIN VIEW, HOUSTON, TX 77057 | 6 | 47,454
TX: SAN ANTONIO HA | 818 S. FLORES ST, SAN ANTONIO, TX 78295 | 1 | 6,279
TX: HA OF DALLAS | 3939 N. HAMPTON RD, DALLAS, TX 75212 | 6 | 51,506
TX: HA OF PLANO | 1740 AVE G, PLANO, TX 75074 | 3 | 23,762
TX: DENTON HA | 1225 WILSON ST, DENTON, TX 76205 | 3 | 21,671
TX: HARRIS COUNTY HA | 8410 LANTERN POINT, HOUSTON, TX 77054 | 33 | 284,732
Total for DVP to TPV Conversions |  | 65 | $548,468
Rent Supplement
CA: OAKLAND HA | 1619 HARRISON ST, OAKLAND, CA 94612 | 7 | 105,324
CO: HA OF CITY & CO OF DENVER | 777 GRANT ST, DENVER, CO 80203 | 14 | 122,884
FL: HA OF JACKSONVILLE | 1300 BRD ST, JACKSONVILLE, FL 32202 | 15 | 111,213
KY: KENTUCKY HSG CORP | 1231 LOUISVILLE RD, FRANKFORT, KY 40601 | 30 | 146,502
ME: BANGOR HA | 161 DAVIS RD, BANGOR, ME 04401 | 8 | 37,386
OH: CINCINNATI METRO HA | 16 WEST CENTRAL PKWY, CINCINNATI, OH 45210 | 18 | 109,056
SD: SIOUX FALLS HRA | 630 SOUTH MINNESOTA, SIOUX FALLS, SD 57104 | 123 | 653,839
WA: SEATTLE HA | 120 SIXTH AVE NORTH, SEATTLE, WA 98109 | 20 | 418,123
Total for Rent Supplement |  | 235 | $1,704,327
PD Relocation Vouchers
AZ: CITY OF TUCSON | 310 N. COMMERCE PARK LOOP, TUCSON, AZ 85726 | 45 | 287,885
MS: MISS REGIONAL HA VIII | PO BOX 2347, GULFPORT, MS 39505 | 10 | 66,923
NM: EASTERN REGIONAL HA | 106 E. REED, ROSWELL, NM 88202 | 20 | 82,037
NY: NEW YORK CITY HA | 90 CHURCH ST, 9TH FL, NEW YORK, NY 10007 | 219 | 2,241,737
PA: PHILADELPHIA HA | 12 SOUTH 23RD ST, PHILADELPHIA, PA 19103 | 86 | 555,103
Total for PD Relocation Vouchers |  | 380 | $3,233,685
Pre-payment Vouchers
AL: MOBILE HOUSING BOARD | PO BOX 1345, MOBILE, AL 36633 | 1 | 6,144
AL: FLORENCE HA | 110 SO CYPRESS ST, STE #1, FLORENCE, AL 35630 | 13 | 55,865
AL: HA OF ALBERTVILLE | PO BOX 1126, ALBERTVILLE, AL 35950 | 21 | 76,129
AR: RUSSELLVILLE HA | PO BOX 825, RUSSELLVILLE, AR 72811 | 48 | 147,260
AR: FAYETTEVILLE HA | # 1 NORTH SCHOOL AVE, FAYETTEVILLE, AR 72701 | 67 | 276,817
CA: CITY OF LOS ANGELES HA | 2600 WILSHIRE BLVD, 3RD FL, LOS ANGELES, CA 90057 | 31 | 320,712
CO: COLORADO SPRINGS HA | P.O. BOX 1575, MC 1490, COLORADO SPRINGS, CO 80901 | 41 | 292,415
CT: MIDDLETOWN HA | 40 BROAD ST, MIDDLETOWN, CT 06457 | 248 | 1,872,053
DC: DISTRICT OF COLUMBIA HA | 1133 NORTH CAPITOL ST, NE, WASHINGTON, DC 20002 | 105 | 1,322,780
FL: HA OF OCALA | PO BOX 2468, OCALA, FL 34478 | 24 | 144,564
GA: GEORGIA DEPT OF COMM AFFAIRS | 60 EXECUTIVE PARK SO, NE, STE 250, ATLANTA, GA 30329 | 70 | 443,713
IA: BURLINGTON LOW RENT HA | 2830 WINEGARD DR, BURLINGTON, IA 52601 | 48 | 179,228
IL: CHICAGO HA | 60 EAST VAN BUREN ST, 11TH FL, CHICAGO, IL 60605 | 188 | 1,762,820
IL: CHAMPAIGN COUNTY HA | 205 WEST PARK AVE, CHAMPAIGN, IL 61820 | 348 | 2,256,585
IL: WAUKEGAN HA | 215 S. MARTIN KING, JR. AVE, WAUKEGAN, IL 60085 | 0 | 561,452
IN: MICHIGAN CITY HA | 621 EAST MICHIGAN BLVD, MICHIGAN, IN 46360 | 26 | 145,620
IN: HA OF CITY OF ELKHART | 1396 BENHAM AVE, ELKHART, IN 46516 | 94 | 510,522
IN: HA OF NEW CASTLE | 720 SOUTH 15TH ST, NEW CASTLE, IN 47362 | 32 | 126,839
MD: BOSTON HA | 52 CHAUNCY ST, BOSTON, MA 02111 | 122 | 1,568,891
MA: MALDEN HA | 630 SALEM ST, MALDEN, MA 02148 | 80 | 923,731
MA: SPRINGFIELD HA | 25 SAAB COURT, SPRINGFIELD, MA 01101 | 42 | 294,900
MA: PLYMOUTH HA | POB 3537, PLYMOUTH, MA 02361 | 92 | 932,030
MA: OMM DEV PROG COMM OF MA, EOCD | 100 CAMBRIDGE ST, BOSTON, MA 02114 | 56 | 616,211
MD: HA OF BALTIMORE CITY | 417 EAST FAYETTE ST, BALTIMORE, MD 21201 | 49 | 461,521
MD: ANNE ARUNDEL COUNTY HA | 7885 GORDON COURT, GLEN BURNIE, MD 21060 | 143 | 1,387,987
MI: FERNDALE HSG COMM | 415 WITHINGTON, FERNDALE, MI 48220 | 335 | 1,978,363
MI: MICHIGAN STATE HDA | PO BOX 30044, LANSING, MI 48909 | 12 | 72,255
MN: ITASCA COUNTY HRA | 102 NE THIRD ST, STE 160, GRAND RAPIDS, MN 55744 | 44 | 169,620
MO: ST. LOUIS HA | 3520 PAGE BOULEVARD, ST. LOUIS, MO 63106 | 71 | 472,559
NC: CITY OF CONCORD | 283 HAROLD GOODMAN DR, SW, CONCORD, NC 28026 | 7 | 42,575
NC: GREENSBORO HA | PO BOX 21287, GREENSBORO, NC 27420 | 43 | 220,554
NC: HA OF ROCKY MOUNT | 1006 AYCOCK ST, ROCKY MOUNT, NC 27803 | 1 | 5,088
NE: OMAHA HA | 540 SOUTH 27TH ST, OMAHA, NE 68105 | 154 | 1,008,860
NE: HA OF LINCOLN | 5700 “R” ST, LINCOLN, NE 68505 | 52 | 219,361
NJ: MONTCLAIR HA | 205 CLAREMONT AVE, MONTCLAIR, NJ 07042 | 31 | 290,819
NY: BINGHAMTON HA | 35 EXCHANGE ST, BINGHAMTON, NY 13902 | 324 | 1,393,653
NY: HA OF WATERVLIET | 2400 SECOND AVE, WATERVLIET, NY 12189 | 100 | 528,792
NY: HA OF ROME | 205 ST PETER'S AVE, ROME, NY 13440 | 122 | 518,066
NY: HA OF ROCHESTER | 675 WEST MAIN ST, ROCHESTER, NY 14611 | 86 | 425,989
NY: HA OF GLENS FALLS | STICHMAN TOWERS JAY ST, GLENS FALLS, NY 12801 | 58 | 263,673
NY: THE CITY OF NEW YORK | 100 GOLD ST, ROOM 501, NEW YORK, NY 10007 | 510 | 5,770,548
NY: CITY OF PEEKSKILL | 840 MAIN ST, PEEKSKILL, NY 10566 | 72 | 690,198
NY: CITY OF UTICA | DEPT OF URBAN & ECON DEV, CITY HALL, UTICA, NY 13502 | 302 | 1,404,517
NY: NYS HSG TRUST FUND CORP | 38-40 STATE ST, ALBANY, NY 12207 | 3,190 | 28,126,258
OH: CINCINNATI METRO HA | 16 WEST CENTRAL PARKWAY, CINCINNATI, OH 45210 | 88 | 533,164
OH: LAKE MHA | 189 FIRST ST, PAINESVILLE, OH 44077 | 1 | 6,530
OR: HA OF PORTLAND | 135 SW ASH ST, PORTLAND, OR 97204 | 9 | 65,432
SC: HA GREENWOOD | PO BOX 973, GREENWOOD, SC 29648 | 102 | 407,996
SD: SIOUX FALLS HRA | 630 SOUTH MINNESOTA, SIOUX FALLS, SD 57104 | 28 | 146,998
SD: LAWRENCE COUNTY HA | 1220 CEDAR ST, #113, STURGIS, SD 57785 | 32 | 129,274
TN: MEMPHIS HA | PO BOX 3664, MEMPHIS, TN 38103 | 92 | 653,038
TX: FORT WORTH HA | 1201 E. 13TH ST, FORT WORTH, TX 76101 | 1 | 6,454
TX: SAN ANTONIO HA | 818 S. FLORES ST, SAN ANTONIO, TX 78295 | 33 | 207,191
VA: NORFOLK REDEV & HA | 201 GRANBY ST, NORFOLK, VA 23501 | 9 | 73,345
VA: DANVILLE REDEV & HA | 651 CARDINAL PL, DANVILLE, VA 24541 | 39 | 233,785
VA: FAIRFAX CO REDEV & HA | 3700 PENDER DR, STE 300, FAIRFAX, VA 22030 | 74 | 925,554
VA: VIRGINIA HSG DEV AUTH | 601 SOUTH BELVIDERE ST, RICHMOND, VA 23220 | 5 | 35,266
WV: THE CITY OF FAIRMONT HA | 103 12TH ST, FAIRMONT, WV 26555 | 16 | 81,133
WY: HA OF CITY OF CHEYENNE | 3304 SHERIDAN AVE, CHEYENNE, WY 82009 | 32 | 154,053
Total for Prepayment Vouchers |  | 8,064 | $63,947,750
Special Fees—Prepayments
AL: MOBILE HOUSING BOARD | PO BOX 1345, MOBILE, AL 36633 | 0 | 200
AL: FLORENCE HA | 110 SO CYPRESS ST, STE #1, FLORENCE, AL 35630 | 0 | 1,200
AL: HA OF ALBERTVILLE | PO BOX 1126, ALBERTVILLE, AL 35950 | 0 | 4,200
AR: RUSSELLVILLE HA | PO BOX 825, RUSSELLVILLE, AR 72811 | 0 | 8,800
AR: FAYETTEVILLE HA | #1 NORTH SCHOOL AVE, FAYETTEVILLE, AR 72701 | 0 | 12,200
CA: CITY OF LOS ANGELES HA | 2600 WILSHIRE BLVD, 3RD FL, LOS ANGELES, CA 90057 | 0 | 6,200
CO: COLORADO SPRINGS HA | P.O. BOX 1575, MC 1490, COLORADO SPRINGS, CO 80901 | 0 | 6,800
CT: MIDDLETOWN HA | 40 BRD ST, MIDDLETOWN, CT 06457 | 0 | 45,400
DC: DISTRICT OF COLUMBIA HA | 1133 NORTH CAPITOL ST, NE, WASHINGTON, DC 20002 | 0 | 21,000
FL: HA OF OCALA | PO BOX 2468, OCALA, FL 34478 | 0 | 4,800
GA: GEORGIA DEPT. OF COMM AFFAIRS | 60 EXECUTIVE PARK SO, NE, STE 250, ATLANTA, GA 30329 | 0 | 13,000
IA: BURLINGTON LOW RENT HA | 2830 WINEGARD DR, BURLINGTON, IA 52601 | 0 | 8,600
IL: CHICAGO HA | 60 EAST VAN BUREN ST, 11TH FL, CHICAGO, IL 60605 | 0 | 34,800
IL: CHAMPAIGN COUNTY HA | 205 WEST PARK AVE, CHAMPAIGN, IL 61820 | 0 | 64,600
IN: MICHIGAN CITY HA | 621 EAST MICHIGAN BLVD, MICHIGAN, IN 46360 | 0 | 4,200
IN: HA OF CITY OF ELKHART | 1396 BENHAM AVE, ELKHART, IN 46516 | 0 | 17,400
IN: HA OF NEW CASTLE | 720 SOUTH 15TH ST, NEW CASTLE, IN 47362 | 0 | 6,400
MA: BOSTON HA | 52 CHAUNCY ST, BOSTON, MA 02111 | 0 | 24,400
MA: MALDEN HA | 630 SALEM ST, MALDEN, MA 02148 | 0 | 14,200
MA: SPRINGFIELD HA | 25 SAAB COURT, SPRINGFIELD, MA 01101 | 0 | 8,400
MA: PLYMOUTH HA | POB 3537, PLYMOUTH, MA 02361 | 0 | 18,400
MA: COMM DEV PROG COMM OF MA, EOCD | 100 CAMBRIDGE ST, BOSTON, MA 02114 | 0 | 9,600
MD: HA OF BALTIMORE CITY | 417 EAST FAYETTE ST, BALTIMORE, MD 21201 | 0 | 9,800
MD: ANNE ARUNDEL COUNTY HA | 7885 GORDON COURT, GLEN BURNIE, MD 21060 | 0 | 28,400
MI: FERNDALE HSG COMM | 415 WITHINGTON, FERNDALE, MI 48220 | 0 | 60,600
MI: MICHIGAN STATE HDA | PO BOX 30044, LANSING, MI 48909 | 0 | 2,400
MN: ITASCA COUNTY HRA | 102 NE THIRD ST, STE 160, GRAND RAPIDS, MN 55744 | 0 | 8,600
NC: CITY OF CONCORD | 283 HAROLD GOODMAN DR, SW, CONCORD, NC 28026 | 0 | 1,000
NC: GREENSBORO HA | PO BOX 21287, GREENSBORO, NC 27420 | 0 | 7,600
NE: OMAHA HA | 540 SOUTH 27TH ST, OMAHA, NE 68105 | 0 | 30,000
NE: HA OF LINCOLN | 5700 “R” ST, LINCOLN, NE 68505 | 0 | 25,800
NJ: MONTCLAIR HA | 205 CLAREMONT AVE, MONTCLAIR, NJ 07042 | 0 | 6,200
NY: BINGHAMTON HA | 35 EXCHANGE ST, BINGHAMTON, NY 13902 | 0 | 63,000
NY: HA OF WATERVLIET | 2400 SECOND AVE, WATERVLIET, NY 12189 | 0 | 15,000
NY: HA OF ROME | 205 ST PETER'S AVE, ROME, NY 13440 | 0 | 22,000
NY: HA OF ROCHESTER | 675 WEST MAIN ST, ROCHESTER, NY 14611 | 0 | 17,200
NY: HA OF GLENS FALLS | STICHMAN TOWERS JAY ST, GLENS FALLS, NY 12801 | 0 | 11,600
NY: THE CITY OF NEW YORK | 100 GOLD ST, ROOM 501, NEW YORK, NY 10007 | 0 | 95,800
NY: CITY OF PEEKSKILL | 840 MAIN ST, PEEKSKILL, NY 10566 | 0 | 14,400
NY: CITY OF UTICA | CITY HALL, UTICA, NY 13502 | 0 | 55,200
NY: NYS HSG TRUST FUND CORP | 38-40 STATE ST, ALBANY, NY 12207 | 0 | 626,600
OH: CINCINNATI METRO HSG AUTH | 16 WEST CENTRAL PARKWAY, CINCINNATI, OH 45210 | 0 | 17,600
OH: LAKE MHA | 189 FIRST ST, PAINESVILLE, OH 44077 | 0 | 200
OR: HA OF PORTLAND | 135 SW ASH ST, PORTLAND, OR 97204 | 0 | 1,600
SC: HA GREENWOOD | PO BOX 973, GREENWOOD, SC 29648 | 0 | 13,600
SD: SIOUX FALLS HSG DEV AUTH | 630 SOUTH MINNESOTA, SIOUX FALLS, SD 57104 | 0 | 5,600
SD: LAWRENCE COUNTY HA | 1220 CEDAR ST, #113, STURGIS, SD 57785 | 0 | 5,800
TN: MEMPHIS HA | PO BOX 3664, MEMPHIS, TN 38103 | 0 | 13,000
TX: FORT WORTH HA | 1201 E. 13TH ST, FORT WORTH, TX 76101 | 0 | 200
TX: SAN ANTONIO HA | 818 S. FLORES ST, SAN ANTONIO, TX 78295 | 0 | 6,600
VA: NORFOLK REDEV & HA | 201 GRANBY ST, NORFOLK, VA 23501 | 0 | 1,800
VA: DANVILLE REDEV & HA | PO BOX 2669, 651 CARDINAL PL, DANVILLE, VA 24541 | 0 | 6,800
VA: FAIRFAX CO REDEV & HA | 3700 PENDER DR, STE 300, FAIRFAX, VA 22030 | 0 | 14,800
VA: VIRGINIA HSG DEV AUTH | 601 SOUTH BELVIDERE ST, RICHMOND, VA 23220 | 0 | 1,000
WV: THE CITY OF FAIRMONT HA | 103 12TH ST, FAIRMONT, WV 26555 | 0 | 3,200
WY: HA OF CITY OF CHEYENNE | 3304 SHERIDAN AVE, CHEYENNE, WY 82009 | 0 | 3,200
Total for Special Fees—Prepayments |  | 0 | $1,531,000
Special Fees—Termination/Opt-outs
AR: RUSSELLVILLE HA | PO BOX 825, RUSSELLVILLE, AR 72811 | 0 | 3,000
CA: SAN FRANCISCO HA | 1815 EGBERT AVE, SAN FRANCISCO, CA 94124 | 0 | 24,600
CA: COUNTY OF LOS ANGELES HA | 2 CORAL CIRCLE, MONTEREY PARK, CA 93907 | 0 | 600
CA: CITY OF LOS ANGELES HA | 2600 WILSHIRE BLVD., 3RD FL, LOS ANGELES, CA 90057 | 0 | 3,000
CA: COUNTY OF SACRAMENTO HA | PO BOX 1834, SACRAMENTO, CA 95812 | 0 | 1,000
CA: COUNTY OF FRESNO HA | 1331 FULTON MALL, FRESNO, CA 93776 | 0 | 3,400
CA: SAN DIEGO HSG COMM | 1122 BRDWAY, STE 300, SAN DIEGO, CA 92101 | 0 | 42,000
CA: CITY OF PASADENA CDC | 646 N FAIR OAKS AVE, STE 202, PASADENA, CA 91103 | 0 | 400
CA: CITY OF REDDING HA | 777 CYPRESS AVE, REDDING, CA 96049 | 0 | 8,000
CA: CITY OF BALDWIN PARK HA | 14403 PACIFIC AVE, BALDWIN PARK, CA 91706 | 0 | 400
CT: HA OF CITY OF NEW HAVEN | 360 ORANGE ST, NEW HAVEN, CT 06511 | 0 | 400
CT: STAMFORD HA | 22 CLINTON AVE, STAMFORD, CT 06901 | 0 | 8,200
CT: CITY OF HARTFORD | 250 CONSTITUTION PLAZA, HARTFORD, CT 06103 | 0 | 5,000
FL: HA OF TAMPA | 1514 UNION ST, TAMPA, FL 33607 | 0 | 9,800
FL: MIAMI DADE HA | 1401 NW 7TH ST, MIAMI, FL 33125 | 0 | 6,600
FL: HA OF FORT LAUDERDALE | 437 S W 4TH AVE, FORT LAUDERDALE, FL 33315 | 0 | 12,800
FL: NW FLORIDA REGIONAL HA | P.O. BOX 218, GRACEVILLE, FL 32440 | 0 | 1,200
FL: CLEARWATER HA | 908 CLEVELAND ST, CLEARWATER, FL 33755 | 0 | 9,400
GA: HA OF MARIETTA | 95 COLE ST, MARIETTA, GA 30061 | 0 | 7,800
IA: AREA XV MULTI-COUNTY HA | 417 NORTH COLLEGE, AGENCY, IA 52530 | 0 | 4,800
IA: MID IOWA REGIONAL HA | 1605 1ST AVE NORTH, STE 1, FORT DODGE, IA 50501 | 0 | 1,400
IL: DECATUR HA | 1808 EAST LOCUST ST, DECATUR, IL 62521 | 0 | 14,800
IN: BEDFORD CITY HA | 1305 K ST, BEDFORD, IN 47421 | 0 | 1,400
KS: JOHNSON COUNTY HA | 12425 W. 87TH ST PKWY, STE 200, LENEXA, KS 66215 | 0 | 16,000
KS: RILEY COUNTY HA | 401 HOUSTON ST, MANHATTAN, KS 66502 | 0 | 600
MD: HA OF BALTIMORE CITY | 417 EAST FAYETTE ST, BALTIMORE, MD 21201 | 0 | 70,200
MD: MONTGOMERY CO HA | 10400 DETRICK AVE, KENSINGTON, MD 20895 | 0 | 7,600
MI: YPSILANTI HSG COMM | 601 ARMSTRONG DR, YPSILANTI, MI 48197 | 0 | 25,000
MI: BATTLE CREEK HSG COMM | 250 CHAMPION ST, BATTLE CREEK, MI 49017 | 0 | 5,800
MI: GRAND RAPIDS HSG COMM | 1420 FULLER AVE SE, GRAND RAPIDS, MI 49507 | 0 | 29,800
MN: ST. PAUL PHA | 555 NORTH WABASHA, STE 400, ST. PAUL, MN 55102 | 0 | 5,800
MN: ST. CLOUD HRA | 1225 WEST ST. GERMAIN, ST. CLOUD, MN 56301 | 0 | 4,200
MN: ST. FRANCOIS COUNTY PHA | PO BOX N, PARK HILLS, MO 63601 | 0 | 600
MS: JACKSON HOUS AUTH | 2747 LIVINGSTON RD, JACKSON, MS 39283 | 0 | 1,400
MT: RICHLAND COUNTY HA | 1032 6TH ST SW, SIDNEY, MT 59270 | 0 | 1,000
NC: HA OF HIGH POINT | 500 E RUSSELL AVE, HIGH POINT, NC 27261 | 0 | 14,400
NC: ISOTHERMAL PLAN'G & DEV COMM | 111 W COURT ST, RUTHERFORDTON, NC 28139 | 0 | 10,200
ND: HA OF CITY OF WILLISTON | 1801 8TH AVE WEST, #50, WILLISTON, ND 58801 | 0 | 7,800
NE: OMAHA HA | 540 SOUTH 27TH ST, OMAHA, NE 68105 | 0 | 3,000
NE: HALL COUNTY HA | 911 BAUMANN DR, GRAND ISLAND, NE 68803 | 0 | 10,800
NE: FREMONT HA | 2510 NORTH CLARKSON #100, FREMONT, NE 68025 | 0 | 1,400
NJ: PASSAIC HA | 333 PASSAIC ST, PASSAIC, NJ 07055 | 0 | 7,200
NJ: NEW JERSEY DCA | 101 SOUTH BROAD ST, TRENTON, NJ 08625 | 0 | 200
NM: BERNALILLO COUNTY HSG DEPT | 1900 BRIDGE BLVD, SW, ALBUQUERQUE, NM 87105 | 0 | 5,600
NM: EASTERN REGIONAL HA | 2057 106 E. REED, ROSWELL, NM 88202 | 0 | 4,400
NY: ALBANY HA | 200 SOUTH PEARL, ALBANY, NY 12202 | 0 | 1,400
NY: HA OF SCHENECTADY | 375 BROADWAY, SCHENECTADY, NY 12305 | 0 | 7,600
NY: HA OF GLENS FALLS | STICHMAN TOWERS JAY ST, GLENS FALLS, NY 12801 | 0 | 800
OH: CINCINNATI METRO HSG AUTH | 16 WEST CENTRAL PARKWAY, CINCINNATI, OH 45210 | 0 | 49,600
OH: AKRON MHA | 100 W. CEDAR ST, AKRON, OH 44307 | 0 | 9,000
OH: BUTLER MET.HA | 4110 HAMILTON MIDDLETOWN RD, HAMILTON, OH 45011 | 0 | 3,000
OK: HA OF LAWTON | 609 SW F. AVE, LAWTON, OK 73501 | 0 | 3,000
OK: TULSA HA | PO BOX 6369, TULSA, OK 74148 | 0 | 24,000
OK: OKLAHOMA HSG FIN AGENCY | PO BOX 26720, OKLAHOMA CITY, OK 73126 | 0 | 6,800
OR: HA & COMM SERVICES AGENCY | 177 DAY ISLAND RD, EUGENE, OR 97401 | 0 | 2,400
OR: HA OF JACKSON COUNTY | 2231 TABLE ROCK RD, MEDFORD, OR 97501 | 0 | 10,800
OR: LINN-BENTON HA | 1250 SE QUEEN AVE, ALBANY, OR 97322 | 0 | 1,600
PA: PHILADELPHIA HA | 12 SOUTH 23RD ST, PHILADELPHIA, PA 19103 | 0 | 2,200
PA: JOHNSTOWN HA | 501 CHESTNUT ST, JOHNSTOWN, PA 15907 | 0 | 2,000
SD: HURON HA | PO BOX 283, HURON, SD 57350 | 0 | 3,000
SD: MEADE COUNTY HSG REDEV COM | 1220 CEDAR ST, #11, STURGIS, SD 57785 | 0 | 600
TX: SAN ANTONIO HA | 818 S. FLORES ST, SAN ANTONIO, TX 78295 | 0 | 9,800
TX: CORPUS CHRISTI HA | 3701 AYERS SO, CORPUS CHRISTI, TX 78415 | 0 | 1,400
TX: HA OF WACO | 4400 COBBS DR, WACO, TX 76703 | 0 | 29,600
TX: BAY CITY HA | 3012 SYCAMORE, BAY CITY, TX 77414 | 0 | 3,800
VA: HAMPTON REDEV & HA | PO BOX 280, HAMPTON, VA 23669 | 0 | 12,800
VT: BURLINGTON HA | 65 MAIN ST, BURLINGTON, VT 05401 | 0 | 1,000
VT: VERMONT STATE HA | ONE PROSPECT ST, MONTPELIER, VT 05602 | 0 | 2,600
WA: HA OF CITY OF BREMERTON | 110 RUSSELL RD, BREMERTON, WA 98312 | 0 | 2,600
Total for Special Fees—Termination/Opt-outs |  | 0 | $594,400
Special Fees—DVP Conversion to TPV
FL: HA OF DELRAY BEACH | 600 N CONGRESS, STE 310B, DELRAY BEACH, FL 33445 | 0 | 200
GA: HA OF THE CITY OF | 2000 W. PRINCETON AVE, COLLEGE PARK, GA 30337 | 0 | 200
GA: HA OF DEKALB COUNTY | 750 COMMERCE DR, STE 201, DECATUR, GA 30030 | 0 | 400
GA: HA OF FULTON COUNTY | 4273 WENDELL DR, SW, ATLANTA, GA 30336 | 0 | 800
TN: MEMPHIS HA | PO BOX 3664, MEMPHIS, TN 38103 | 0 | 200
TX: AUSTIN HA | PO BOX 6159, AUSTIN, TX 78762 | 0 | 800
TX: HOUSTON HA | 2640 FOUNTAIN VIEW, HOUSTON, TX 77057 | 0 | 1,200
TX: SAN ANTONIO HA | 818 S. FLORES ST, SAN ANTONIO, TX 78295 | 0 | 200
TX: HA OF DALLAS | 3939 N. HAMPTON RD, DALLAS, TX 75212 | 0 | 1,200
TX: HA OF PLANO | 1740 AVE G, PLANO, TX 75074 | 0 | 600
TX: DENTON HA | 1225 WILSON ST, DENTON, TX 76205 | 0 | 600
TX: HARRIS COUNTY HA | 8410 LANTERN POINT, HOUSTON, TX 77054 | 0 | 6,600
Total for Special Fees—DVP Conversion to TPV |  | 0 | $13,000
Special Fees—Property Disposition Relocation
AZ: CITY OF TUCSON | 310 N. COMMERCE PARK LOOP, TUCSON, AZ 85726 | 0 | 9,000
MN: MEEKER COUNTY HRA | 840 NORTH THIRD ST, DASSEL, MN 55325 | 0 | 1,200
MS: MISS REGIONAL HA VIII | PO BOX 2347, GULFPORT, MS 39505 | 0 | 2,000
NM: EASTERN REGIONAL HA | 106 E. REED, ROSWELL, NM 88202 | 0 | 4,000
NY: NEW YORK CITY HA | 90 CHURCH ST, 9TH FL, NEW YORK, NY 10007 | 0 | 43,800
PA: PHILADELPHIA HA | 12 SOUTH 23RD ST, PHILADELPHIA, PA 19103 | 0 | 15,600
SD: SIOUX FALLS HRA | 630 SOUTH MINNESOTA, SIOUX FALLS, SD 57104 | 0 | 3,800
WA: SEATTLE HA | 120 SIXTH AVE NORTH, SEATTLE, WA 98109 | 0 | 3,200
Total for Special Fees—PD Relocation |  | 0 | $82,600
Special Fees—Relocation—Rent Supplement
CA: OAKLAND HA | 1619 HARRISON ST, OAKLAND, CA 94612 | 0 | 1,400
CO: HA OF THE CITY | 777 GRANT ST, DENVER, CO 80203 | 0 | 2,800
FL: HA OF JACKSONVILLE | 1300 BRD ST, JACKSONVILLE, FL 32202 | 0 | 2,400
KY: KENTUCKY HSG CORP | 1231 LOUISVILLE RD, FRANKFORT, KY 40601 | 0 | 5,800
ME: BANGOR HA | 161 DAVIS RD, BANGOR, ME 04401 | 0 | 1,600
OH: CINCINNATI METRO HSG AUTH | 16 WEST CENTRAL PARKWAY, CINCINNATI, OH 45210 | 0 | 3,000
SD: SIOUX FALLS HRA | 630 SOUTH MINNESOTA, SIOUX FALLS, SD 57104 | 0 | 19,200
Total for Special Fees—Relocation—Rent Supplement |  | 0 | $36,200
Termination/Opt-out Vouchers
AR: RUSSELLVILLE HA | PO BOX 825, RUSSELLVILLE, AR 72811 | 16 | 49,087
CA: SAN FRANCISCO HA | 1815 EGBERT AVE, SAN FRANCISCO, CA 94124 | 123 | 1,864,970
CA: COUNTY OF LOS ANGELES HA | 2 CORAL CIRCLE, MONTEREY PARK, CA 93907 | 3 | 31,388
CA: CITY OF LOS ANGELES HA | 2600 WILSHIRE BLVD, 3RD FL, LOS ANGELES, CA 90057 | 15 | 155,186
CA: COUNTY OF SACRAMENTO HA | PO BOX 1834, SACRAMENTO, CA 95812 | 10 | 85,771
CA: COUNTY OF FRESNO HA | 1331 FULTON MALL, FRESNO, CA 93776 | 17 | 114,377
CA: SAN DIEGO HSG COMM | 1122 BRDWAY, STE 300, SAN DIEGO, CA 92101 | 210 | 2,217,373
CA: CITY OF PASADENA COMMUNITY | 646 N FAIR OAKS AVE, STE 202, PASADENA, CA 91103 | 2 | 16,526
CA: CITY OF REDDING HA | 777 CYPRESS AVE, REDDING, CA 96049 | 40 | 219,360
CA: CITY OF BALDWIN PARK HA | 14403 PACIFIC AVE, BALDWIN PARK, CA 91706 | 2 | 18,247
CT: HA OF CITY OF NEW HAVEN | 360 ORANGE ST, NEW HAVEN, CT 06511 | 6 | 72,030
CT: STAMFORD HA | 22 CLINTON AVE, STAMFORD, CT 06901 | 41 | 600,373
CT: CITY OF HARTFORD | 250 CONSTITUTION PLAZA, HARTFORD, CT 06103 | 25 | 202,863
FL: HA OF TAMPA | 1514 UNION ST, TAMPA, FL 33607 | 52 | 469,354
FL: MIAMI DADE HA | 1401 NW 7TH ST, MIAMI, FL 33125 | 36 | 357,096
FL: HA OF FORT LAUDERDALE | 437 SW 4TH AVE, FORT LAUDERDALE, FL 33315 | 64 | 622,134
FL: NW FLORIDA REGIONAL HA | P.O. BOX 218, GRACEVILLE, FL 32440 | 6 | 32,088
FL: CLEARWATER HA | 908 CLEVELAND ST, CLEARWATER, FL 33755 | 47 | 358,467
GA: HA OF MARIETTA | 95 COLE ST, MARIETTA, GA 30061 | 39 | 304,528
IA: AREA XV MULTI-COUNTY HA | 417 NORTH COLLEGE, AGENCY, IA 52530 | 24 | 72,815
IA: MID IOWA REGIONAL HA | 1605 1ST AVE NORTH, STE 1, FORT DODGE, IA 50501 | 17 | 45,152
IL: DECATUR HA | 1808 EAST LOCUST SO, DECATUR, IL 62521 | 77 | 357,228
IN: BEDFORD CITY HA | 1305 K ST, BEDFORD, IN 47421 | 7 | 26,870
KS: JOHNSON COUNTY HA | 12425 W. 87TH ST PKWY, STE 200, LENEXA, KS 66215 | 80 | 511,632
KS: RILEY COUNTY HA | 401 HOUSTON ST, MANHATTAN, KS 66502 | 3 | 11,520
MD: HA OF BALTIMORE CITY | 417 EAST FAYETTE ST, BALTIMORE, MD 21201 | 351 | 3,305,999
MD: MONTGOMERY CO HA | 10400 DETRICK AVE, KENSINGTON, MD 20895 | 38 | 490,104
MI: YPSILANTI HSG COMM | 601 ARMSTRONG DR, YPSILANTI, MI 48197 | 125 | 989,685
MI: BATTLE CREEK HSG COMM | 250 CHAMPION ST, BATTLE CREEK, MI 49017 | 30 | 117,439
MI: GRAND RAPIDS HSG COMM | 1420 FULLER AVE, SE, GRAND RAPIDS, MI 49507 | 152 | 884,421
MN: ST PAUL PHA | 555 NORTH WABASHA, STE 400, ST. PAUL, MN 55102 | 29 | 229,116
MN: ST. CLOUD HRA | 1225 WEST ST. GERMAIN, ST. CLOUD, MN 56301 | 24 | 122,023
MO: ST. FRANCOIS COUNTY PHA | PO BOX N, PARK HILLS, MO 63601 | 3 | 18,869
MS: JACKSON HOUS AUTH | 2747 LIVINGSTON RD, JACKSON, MS 39283 | 7 | 49,260
MT: RICHLAND COUNTY HA | 1032 6TH ST SW, SIDNEY, MT 59270 | 8 | 19,031
NC: HA HIGH POINT | 500 E RUSSELL AVE, HIGH POINT, NC 27261 | 84 | 417,040
NC: ISOTHERMAL PLAN'G & DEV COMM | 111 W COURT ST, RUTHERFORDTON, NC 28139 | 52 | 244,415
ND: HA OF THE CITY OF WILLISTON | 1801 8TH AVE WEST, #50, WILLISTON, ND 58801 | 49 | 135,610
NE: OMAHA HA | 540 SOUTH 27TH ST, OMAHA, NE 68105 | 24 | 157,225
NE: HALL COUNTY HA | 911 BAUMANN DR, GRAND ISLAND, NE 68803 | 60 | 226,699
NE: FREMONT HA | 2510 NORTH CLARKSON #100, FREMONT, NE 68025 | 10 | 38,347
NJ: PASSAIC HA | 333 PASSAIC ST, PASSAIC, NJ 07055 | 36 | 372,807
NJ: NEW JERSEY DEPT OF | 101 SOUTH BRD ST, TRENTON, NJ 08625 | 1 | 9,364
NM: BERNALILLO COUNTY HSG DEPT | 1900 BRIDGE BLVD, SW, ALBUQUERQUE, NM 87105 | 28 | 191,111
NM: EASTERN REGIONAL HA | 057106 E. REED, ROSWELL, NM 88202 | 22 | 90,240
NY: ALBANY HA | 200 SOUTH PEARL, ALBANY, NY 12202 | 7 | 40,728
NY: HA OF SCHENECTADY | 375 BROADWAY, SCHENECTADY, NY 12305 | 38 | 227,042
NY: HA OF GLENS FALLS | STICHMAN TOWERS JAY ST, GLENS FALLS, NY 12801 | 4 | 18,184
OH: CINCINNATI METRO HA | 16 WEST CENTRAL PARKWAY, CINCINNATI, OH 45210 | 248 | 1,500,505
OH: AKRON MHA | 100 W. CEDAR ST, AKRON, OH 44307 | 96 | 548,997
OH: BUTLER MET HA | 4110 HAMILTON MIDDLETOWN RD, HAMILTON, OH 45011 | 15 | 89,138
OK: HA OF LAWTON | 609 SW F. AVE, LAWTON, OK 73501 | 16 | 95,873
OK: TULSA HA | PO BOX 6369, TULSA, OK 74148 | 120 | 668,851
OK: OKLAHOMA HSG FIN AGENCY | PO BOX 26720, OKLAHOMA CITY, OK 73126 | 40 | 197,030
OR: HA OF JACKSON COUNTY | 2231 TABLE ROCK RD, MEDFORD, OR 97501 | 54 | 284,921
OR: LINN-BENTON HA | 1250 SE QUEEN AVE, ALBANY, OR 97322 | 8 | 42,443
PA: PHILADELPHIA HA | 12 SOUTH 23RD ST, PHILADELPHIA, PA 19103 | 14 | 90,366
PA: JOHNSTOWN HA | 501 CHESTNUT ST, JOHNSTOWN, PA 15907 | 15 | 57,875
SD: HURON HA | PO BOX 283, HURON, SD 57350 | 21 | 62,128
SD: MEADE COUNTY HSG REDEV COM | 1220 CEDAR ST, #11, STURGIS, SD 57785 | 3 | 12,560
TX: SAN ANTONIO HA | 818 S. FLORES ST, SAN ANTONIO, TX 78295 | 50 | 343,452
TX: CORPUS CHRISTI HA | 3701 AYERS ST, CORPUS CHRISTI, TX 78415 | 10 | 73,453
TX: HA OF WACO | 4400 COBBS DR, WACO, TX 76703 | 188 | 1,022,329
TX: BAY CITY HA | 3012 SYCAMORE, BAY CITY, TX 77414 | 19 | 83,637
VA: LYNCHBURG REDEV & HA | 918 COMMERCE ST, LYNCHBURG, VA 24505 | 0 | 123,108
VA: HAMPTON REDEV & HA | PO BOX 280, HAMPTON, VA 23669 | 65 | 500,066
VT: BURLINGTON HA | 65 MAIN ST, BURLINGTON, VT 05401 | 6 | 48,002
VT: VERMONT STATE HA | ONE PROSPECT ST, MONTPELIER, VT 05602 | 14 | 81,996
WA: HA OF CITY OF BREMERTON | 110 RUSSELL RD, BREMERTON, WA 98312 | 19 | 123,503
Total for Termination/Opt-out Vouchers |  | 3,165 | $23,261,427
Total for Housing Tenant Protection |  | 11,909 | $94,952,857
HOPE VI Vouchers
TP—HOPE VI
KY: COVINGTON HA | 638 MADISON AVE, FIRST FL, COVINGTON, KY 41011 | 20 | 103,428
NC: HA OF CITY OF CHARLOTTE | 1301 SOUTH BOULEVARD, CHARLOTTE, NC 28236 | 130 | 1,124,994
TN: MEMPHIS HA | PO BOX 3664, MEMPHIS, TN 38103 | 350 | 2,484,384
Total for TP—HOPE VI |  | 500 | $3,712,806
Total for HOPE VI Vouchers |  | 500 | $3,712,806
Grand Total |  | 17,726 | $145,768,063

[FR Doc. 2011-261 Filed 1-7-11; 8:45 am]

BILLING CODE 4210-67-P